ENVIRONMENTAL PROTECTION AGENCY

[EPA-HQ-OPP-2011-0843; FRL-9519-3]

Agency Information Collection Activities; Submission to OMB for Review and Approval; Comment Request; Notice of Arrival of Pesticides and Devices Under FIFRA

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 6, 2012.

ADDRESSES: Submit your comments, referencing Docket ID No. EPA-HQ-OPP-2011-0843, to (1) EPA online using www.regulations.gov (our preferred method), or by mail to: EPA Docket Center, Environmental Protection Agency, Office of Pesticide Programs Regulatory Public Docket (28221T), 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Scott Drewes, Field and External Affairs Division, (7506P), Environmental Protection Agency, 1200 Pennsylvania Ave. NW., Washington, DC 20460; telephone number: (703) 347-0107; fax number: (703) 305-5884; email address: Drewes.Scott@epa.gov.

SUPPLEMENTARY INFORMATION: EPA has submitted the following ICR to OMB for review and approval according to the procedures prescribed in 5 CFR 1320.12. On Wednesday, December 14, 2011 (76 FR 77817), EPA sought comments on this ICR pursuant to 5 CFR 1320.8(d). EPA received 3 comments during the comment period, which are addressed in the ICR. Any additional comments on this ICR should be submitted to EPA and OMB within 30 days of this notice.

EPA has established a public docket for this ICR under Docket ID No. EPA-HQ-OPP-2011-0843, which is available for online viewing at www.regulations.gov, or in person viewing at the Office of Pesticide Programs (OPP) Regulatory Public Docket in the EPA Docket Center (EPA/DC), EPA West, Room 3334, 1301 Constitution Ave. NW., Washington, DC. The EPA/DC Public Reading Room is open from 8 a.m. to 4:30 p.m., Monday through Friday, excluding legal holidays. The telephone number for the Reading Room is 202-566-1744, and the telephone number for the OPP Regulatory Public Docket is 703-305-5805.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Notice of Arrival of Pesticides and Devices under section 17(c) of FIFRA.

ICR Numbers: EPA ICR No. 0152.10, OMB Control No. 2070-0020.

ICR Status: This ICR is scheduled to expire on August 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Customs and Border Protection (CBP) regulations at 19 CFR 12.112 require that an importer desiring to import a pesticide or device into the United States shall, prior to the shipment's arrival in the United States, submit a Notice of Arrival of Pesticides and Devices (EPA Form 3540-1) to EPA. EPA Form 3540-1 requires the identification and contact information of parties involved in the importation of the pesticide or device and information on the identity of the imported pesticide or device shipment. EPA will review the form and indicate the disposition of the shipment upon its arrival in the United States. Upon completing Form 3540-1, EPA returns the form to the importer of record or authorized agent, who must present the form to CBP upon arrival of the shipment at the port of entry. This is necessary to ensure that EPA is notified of the arrival of pesticides and devices as required under FIFRA section 17(c), and that EPA has the ability to examine such shipments to determine compliance with FIFRA. Upon the arrival of the shipment, the importer presents the completed Notice of Arrival (NOA) to the CBP District Director at the port of entry. CBP compares entry documents for the shipment with the NOA and notifies the EPA regional office of any discrepancies.

During this renewal of this information collection, EPA is revising EPA Form 3540-1. The revisions clarify the instructions for completing the form, revise the data items, and update the terminology used on the form to be consistent with those used by CBP. In addition, EPA is capturing the burden of providing supplemental information submitted with Form 3540-1 to the Agency by most importers on a voluntary basis.

Burden Statement: The annual public reporting and recordkeeping burden for this collection of information is estimated to average 0.43 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this ICR are individuals or entities that import pesticides into the United States. The North American Industrial Classification System (NAICS) codes assigned to the parties responding to this information collection include NAICS code 236220 (Commercial and Institutional Building Construction), Sector 11 (Agriculture, Forestry, Fishing and Hunting), and Sector 42 (Wholesale Trade). The majority of responses come from entities that fall under NAICS code 325300 (Pesticide and Other Agricultural Chemical Manufacturing).

Estimated Number of Respondents: 28,000.

Frequency of Response: On occasion.

Estimated Total Annual Hour Burden: 12,040.

Estimated Total Annual Cost: $685,146, includes $0 annualized capital or O&M costs.

Changes in the Estimates: There is an increase of 4540 hours in the total estimated burden currently identified in the OMB Inventory of Approved ICR Burdens. This increase is a result of an increase in the annual number of NOAs submitted and an increase in the burden hours per response. The average, annual number of NOAs submitted to EPA increased from 25,000 to 28,000. The average burden hours per response will change from 0.3 hours for the previous ICR renewal to 0.43 hours for this ICR renewal. This change in burden hours per response is a result of changes to the data items on EPA Form 3450-1, and well as an accounting of the burden of voluntarily submitting certain information. Specifically, this burden estimate accounts for the new burdens related to providing information for the telephone numbers and email addresses of the shipper, importer of record, and licensed customs broker, when supplying name and address information, and for the complete address, including telephone and email address, of the carrier be provided. In addition, EPA is accounting for the burden of voluntarily providing active ingredients and percentage of each, supporting documentation for registered and unregistered pesticides, as well as intended use information for unregistered pesticides. This change is an adjustment.

John Moses,
Director, Collection Strategies Division.

[FR Doc. 2012-16379 Filed 7-3-12; 8:45 am]

BILLING CODE 6560-50-P